ENVIRONMENTAL PROTECTION AGENCY

[FRL-7373-4]

Proposed Second Administrative Cashout Settlement Under Section 122(g) of the Comprehensive Environmental Response, Compensation, and Liability Act; In Re: Beede Waste Oil Superfund Site, Plaistow, NH

AGENCY: Environmental Protection Agency.

ACTION: Notice of proposed second administrative settlement and request for public comment.

SUMMARY: In accordance with section 122(i) of the Comprehensive Environmental Response, Compensation, and Liability Act, as amended, 42 U.S.C. 9622(i), notice is hereby given of a proposed second administrative settlement for recovery of past and projected future response costs concerning the Beede Waste Oil Superfund Site in Plaistow, New Hampshire with the settling parties listed in the Supplementary Information portion of this notice. The U.S. Environmental Protection Agency—Region I (EPA) is proposing to enter into a second de minimis settlement agreement to address claims under the Comprehensive Environmental Response, Compensation, and Liability Act of 1980, as amended (“CERCLA”), 42 U.S.C. 9601 et seq. Notice is being published to inform the public of the proposed second settlement and of the opportunity to comment. This second settlement, embodied in a CERCLA section 122(g) Administrative Order on Consent (“AOC”), is designed to resolve each settling party's liability at the Site for past work, past response costs and specified future work and response costs through covenants under sections 106 and 107 of CERCLA, 42 U.S.C. 9606 and 9607, as well as to resolve each such settling party's liability at the Site for past response costs and estimated future response costs by the State of New Hampshire, through its Department of Environmental Services. The proposed AOC requires the settling parties listed in the Supplementary Information section below to pay an aggregate total of approximately $4,765,118.10. For thirty (30) days following the date of publication of this notice, the EPA will receive written comments relating to the settlement. The EPA will consider all comments received and may modify or withdraw its consent to the settlement if comments received disclose facts or considerations which indicate that the settlement is inappropriate, improper, or inadequate. The EPA's response to any comments received will be available for public inspection at the EPA Records Center, 1 Congress Street, Boston, MA 02114-2023 (Telephone Number: 617-918-1440).

DATES: Comments must be submitted on or before October 10, 2002.

ADDRESSES: The proposed second settlement is available for public inspection at the EPA Records Center, 1 Congress Street, Boston, MA 02114-2023. Please call 617-918-1440 to schedule an appointment. A copy of the proposed second settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-01-2002-0025 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: This section contains a list of the approximately 415 settling parties. Each party name is listed as it appears on the current EPA list of potentially responsible parties (PRPs) and many of the names are followed by a parenthetical which refers to the name the party listed on the AOC signature page. The following is a list of the settling parties, including settling federal agencies, to the proposed second settlement: AEP Industries, Inc., Agawam Service Center, Inc., Al & Paul's Auto Sales, Inc., All-Rite Auto, Inc., Altieri Service, Inc., A.M.A. Transportation Company, Inc., Anchor Motor Freight, Inc. (Penske Truck Leasing Company, LP), Andover Auto & Truck Service, Inc., Andover Street Motor Sports LP (d/b/a Acura of Peabody), Andy's Auto Service, Anton's Cleaners, Inc., ARAMARK Uniform and Career Apparel, Inc., Arlex Oil Corporation, Army & Air Force Exchange Service, Arrington Services, Inc., Arsenal Auto Service, Atlantic Broom Service, Auburndale Service Center LLC, Auto Body & Tire Center, Inc. (d/b/a Cape Auto Body), Auto Craft Enterprises, Auto Hospital, Bailey Motor Sales, Inc., Baker-Wright Auto Electric Service, Bancroft Motors, Inc., Barbas Trucking Company, Inc., Beacon Hill Sunoco, Beaulieu Trucking, Belmont Springs Water Company, Inc., Berardi Automotive, Inc., Berardi Bros Auto Body, Berman Repair & Sales, Inc., Betley Chevrolet Buick, Inc., Bettencourt Machine Company, Inc., Bill's Auto Repair, BJ's Wholesale Club, Inc., Blakeslee Sales, Blount Marine Corporation, BME Engineering, Inc., Bob & Jim's Service Station, Inc., Bob Pion Pontiac-Buick-GMC, Inc., Borden Foods Corporation, Boro Sand & Stone Corporation, Bouchard & Son, Inc., Bresnahan Ice Company, Brian Egan and Gregory Egan, Brian's Auto Service, Inc., Broadway Foreign Auto Repairs, Broadway Rental, Inc. (d/b/a Taylor Rental Center), Broadway Tire & Auto Company, Inc., Brockton Rental Service, Inc., Brodie, Inc., Brooks School, Brownie's Texaco Service, Inc., Brown's Service Station, Bruce's Tremont Street Garage, Bubbles, Inc., Burke Distributing Corporation, Cabot Cabot & Forbes, Callan Automotive Service, CambridgeSide Galleria, Inc., Campello Coal Company, Inc., Carlson's Motor Sales, Inc., Casoli Sand & Gravel, Inc., Cedarview Filling Station, Inc., Central Motors, Inc., Centre Trucking Services, Inc., Century Trailer Sales, Inc., Charles Doucette (d/b/a Charlie's Garage), Charles M. Rollins Company, Inc., Charlie's Auto Service, Chicos Sunoco, Chute Fuel, City of Attleboro, MA, City of Beverly, MA, City of Brockton, MA, City of Cambridge, MA, City of Manchester, NH, City of New Bedford, MA, City of Pawtucket, RI, City of Portsmouth, NH, City of Somerville, MA, City of Taunton, MA, City of Waltham, MA, Clarence H. Knight, Inc., Clark Motor Company, Inc., Clay Chevrolet, Inc., Cleghorn Oil, Inc., Coan, Inc., Compaq Computer Corporation (wholly-owned by Hewlett-Packard Company), Conley Group, Inc., Contemporary Chrysler Plymouth Dodge, Inc., CPC Division US Filter Wastewater Group, Crystal Motor Express, Inc., Crystal Transport, Inc., D. DiMartino Construction Corporation, D J Basile Jr., Inc., Damon Pontiac, Inc., Dana Hall School, Dan's Auto Service, Inc., Dan's Service Center, Dave Gove Auto Repair, Inc., David J. Coomber (d/b/a Dave's Garage), Davis & Tripp, Inc., Davis Exxon, Davis Motor Service Corporation, Davis Towing, Inc., DCM Liquidation Corporation (f/k/a DiaCom Corporation), Dead River Company, Delongchamp Auto Company, Inc., Demoulas Supermarket, Inc. (Retail Management & Development, Inc. (RMD)), Denaults Auto Repair, Diamond Crystal Specialty Foods, Inc. (a subsidiary of Imperial Sugar Company), D.L. Maher Company, Domenick Zanni Sons, Inc., Dom's Motor Service (d/b/a Riverside Kawasaki-Yamaha), Don's Garage, Inc., Douglas D. Andersen, Down East Drilling, Dracut Tire Shop, Inc., Drew's Service Station, Drum Hill Construction Corporation, Duston Oil Company, Inc., E & S Mobile Service, Inc., Eagle Flight Center, Inc., Early & Sons, Inc., East Coast Petroleum Corporation, Eastham Auto Sales, Inc., Edgcomb Metals Company (and current successor, Edgcomb Metals Company, LLC), Edgemont Oil Company, Energy Machinery, Inc., Essex Gas Company, Exit 4 Service Corporation (d/b/a Super Shell Foodmart), Falmouth Toyota, Inc., Fenway Mutual/George Pagounis, Fernandes & Sons Construction Company, Inc., Fiori's Depot Motors, Inc., Fireside Nissan, Inc., First Realty Trust, Fishery Products International, Foss Motors, Inc., Foundry Street Garage, Fowler's Express, Inc., Frank C. Dunlap, Inc., Frank's Auto Repair, Inc., Frank's Garage, Fred W. Smith, Inc., Frederick M. Shaw, Inc. (d/b/a Shaw Saab), Fred's Repair Service, G & G Cycle Sales of Salisbury, Inc., G & G Enterprises, Inc., G & S Management Corporation (successor of Tolpin Marketing, d/b/a Franklin Ford/Tilton Chrysler), G. Conway, Inc., George Cullen's Garage, Godin Bros, Inc., Gonthier's Service Station, GoodNews Garage, Grant Plastics, Inc., Great Neck Saw Manufacturers, Inc./Buck Brothers, Greater Lawrence Sanitary District, Groton-Dunstable Regional School District, GTE Sylvania Corporation (GTE Operations Support Incorporated, Successor), Guill Tool & Engineering Company, Inc., Hamel Brothers Service, Inc., Hammond Park Trust, Handy & Harman Electronics Materials, Hans' Foreign Auto Repair, Harbro Auto Service, Harold P. Hansen (d/b/a Miller Auto Service), Harrington Paving, Hathaway Transmission Service, Inc., Heating Oil Partners LP, Heidimarie Service Corporation, HEJ Corporation, Hendrix Wire & Cable (Thomas & Betts Corporation), Heritage Operating LP (f/k/a Kingston Propane, Inc.), Hogan Tire Centers, Inc., Holden Heating Company (n/k/a Agway Energy Products LLC), Hollingsworth & Vose Company, Holmes Products Corporation (n/k/a The Holmes Group, Inc.), Honda Cars of Boston (Atala Corporation), Honeywell, Inc. (Honeywell International, Inc., Bull HN Information Systems, Inc.), Hub Starters & Alternators, Inc., Huggard & Ewing, Inc., Hyannis Nissan, Inc., Imported Cars of Worcester, Inc., Interstate Brands Corporation (f/k/a Nissen Bakeries), Interstate Brands Corporation, Interstate Brands Corporation (f/k/a Sunbeam Bakers), Interstate Gas & Oil Corporation, Irving Oil Corporation, Irving's Service Center, Inc., J.J. O'Brien & Sons, Inc., J.L. Hammett Company, J.M. Cashman, Inc., James A. Mahoney & Sons, Inc., Jefferson Smurfit Corporation (U.S.), Jefferson Smurfit Corporation (U.S.)(f/k/a Container Corp of America), Joan Fabrics Corporation, John H. Fuccione (d/b/a Burlington Auto Service), John C. Sarette (on behalf of Johnny's Tire & Battery d/b/a JT&B Texaco), John J. Benson, Inc., John Mento, Inc., John W. Cutter, Inc. (d/b/a AAMCO Transmissions), John's Citgo, Johnson Controls, Inc. (Hoover Universal, Inc.), Jones Lang LaSalle Management Services, Inc. (Jones Lang LaSalle Americas, Inc., Successor), Joseph J. Miliano, Joseph R. Morin, Inc., Keller Company, Inc., Kevin King Enterprises Company, Inc., Knight Oil, Inc., Lake Avenue Gulf, Law Motor Freight, Inc. (d/b/a Heavy Duty Truck & Diesel Service), Lawrence-Lynch Corporation, Lewis Builders, Inc. (Successor to Lewis Equipment Company, Inc.), Leon G. Caron (d/b/a C&D Auto Glass & Repair Service), Lucchetti's Service Center, Inc., Lynn Sign, Inc., Lyons Enterprises, Inc., M/A-Com, Inc., Mackenzie Trust, Madico, Inc., Maffee's Garage, Inc., Magic Discount Muffler, Inc., Maher Bros Auto Sales & Service, Inc., Main Street Auto Sales, Mandeville Chevrolet, Inc., Marblehead Trading Company, Marken Properties, Inc., Markings, Inc., Mar-Lee Mold Company, Inc. (n/k/a Mar-Lee Companies, Inc.), Marois Brothers, Inc., Marty's, Inc., Massachusetts Adjutant General (State of Massachusetts and United States on behalf of U.S. Army), Massachusetts Turnpike Authority, Massachusetts Port Authority, Mass-Vac, Inc., Matty's Service, Max Levine and Company, Inc., McFarland Ford Sales, Inc., McGreevy Buick-Cadillac, Inc., Mears Tractors, Inc., Medford Automatic Transmission, Inc., Metech International, Inc. (f/k/a Boliden Metech, Inc.), Methuen Motor Mart, Inc., Mike's Service Station, Mine Safety Appliances Company, Minuteman Regional Vocational Technical School District, Minuteman Volkswagen, Inc., Mitch and Rogers Auto Service, Molloy's Garage, Inc., Monro/Speedy Muffler Group (Monro Muffler Brake, Inc., Successor), Monsanto (n/k/a Pharmacia Corporation by Solutia, Inc.), Montachusett Regional Vocational Technical School District, Monument Square Sunoco Service Center, Mount Auburn Hospital, Multi-State Roofing, Inc., NAI Enterprises, Inc. (d/b/a Wellesley Toyota), Nashua Corporation, Ned's H/D Towing & Service, New Hampshire Adjutant General (State of New Hampshire and United States on behalf of U.S. Army), New Penn Motor Express, Inc., Newman Ford Sales, Inc., North River Motors, Inc., North Shore Regional Vocational School District, Northeast Builders Transport, Inc., Northeast Refrigeration & Heating Company, Inc. (d/b/a Northeast Equipment), Olin Corporation (f/k/a Olin Hunt Specialty Products, Inc.), P & M Service Center, Inc., P.A. Landers, Inc., Paragios Enterprise, Inc., Patalano Chrysler Plymouth, Inc., Paul J. Tocchio (d/b/a Paul's Transmission Repair), Paul's Auto, Paul's Auto Service, Inc., PCI Group, Inc. (Scovill Fasteners, Inc., Successor), Penta Auto Body Company, Inc., Peterborough Oil Company, Inc., Phil Jr's Mobil, Phillips Exeter Academy, Plaistow Precast Corporation, Plaistow Service Center, Plant Action, Inc., Polyclad Laminates, Inc., Poulin Corporation, Power's Service Station, Inc., Prompt Construction Company, Inc., Quinn Bros Corporation, R.S. Audley, Inc., Ralph J. Scovotti (d/b/a Bradford Towing Company), Raymond's Hilltop, Inc., Ray's Auto Service, Inc., Raytheon Company, Rent-A-Tool, Inc., Rhode Island Convention Center Authority, Richard Tanning Company, Inc., Richie's Mobil, Inc., Riverside Transmission Company, Robert A. Chiacchio, Robert Fawcett & Son Company, Inc., Robert K. Sweet Jr. (d/b/a Buddy's Garage), Rochester Lincoln Mercury, Rose's Oil Service, Inc., Roy's Place, RPP Corporation, S & E Auto Service & Sales, Inc., S & L Automotive Repair, Inc. (d/b/a Dow's Gulf), Saef Lincoln Mercury, Inc., Salem State College, Salisbury Auto Salvage, San-Vel Concrete Corporation (Lone Star Industries, Inc.), Sawtelle Brothers, Inc., Sawyer Enterprises, Inc., Saxonville Realty Trust, Saybolt, Inc. (Saybolt LP), S.B.E., Inc., Schlott Company, Inc., School Administrative Unit Fifty-Six, Scott's Auto Clinic, Scotty's Service, Inc., Scott-Williams, Inc., Seacoast Auto Parts, Inc., Seacoast Volkswagen, Inc., SGS Control Services, Inc., Shaughnessy Crane Service, Inc. (Shaughnessy & Ahern Company), Showcase Isuzu, Inc., Silva Tire Depot, Inc., Skilling & Sons, Inc., Sons of Mary, Health of the Sick, Inc., Southcoast Hospitals Group, Inc. (d/b/a Saint Luke's Hospital), Spalding Construction, Inc., St. Margaret Parish, St. Mary's Rectory (The Roman Catholic Bishop of Fall River, a corporation), St. Peters Realty Trust, Standard-Thomson Corporation, Stephen Antinarelli, Inc., Stephen E. Shamban (Chapter 7 Trustee of NAIC of New Bedford, Inc.), Stephen H. Craig (d/b/a Plympton Service Center), Stephen J. Pettepit, Stroock & Stroock & Lavan LLP/Kaye, Failkow, Richmond & Rothstein), Sullivan Bros Nissan Lincoln-Mercury, Inc., Sullivan Tire Company, Inc., Sun Auto Rental Company, Inc., Tatnuck Mobil, Teknor Apex Company, The Charles Stark Draper Laboratory, Inc., The Dodge Company, Inc., The Drucker Company LTD., The Hertz Corporation, The Salvation Army, The Stop & Shop Supermarket Company (and Purity Supreme, Inc.), The Wakefield Corporation, The William Carter Company, Tom Porter's Auto Service, Inc., Tommy's Auto Service, Topsfield Fire Department (Town of Topsfield), Tosti's Service Station, Inc., Tower Automotive, Inc., Towers of Chestnut Hill, Town of Billerica, MA, Town of Boxford, MA, Town of Brookline, MA, Town of Burlington, MA, Town of Carver, MA, Town of Chatham, MA, Town of Duxbury, MA, Town of Eastham, MA, Town of Epping, NH, Town of Hanover, MA, Town of Hanson, MA, Town of Harwich, MA, Town of Littleton, MA (Littleton Electric Light Department), Town of Mashpee, MA, Town of Milford, MA, Town of Milton, MA, Town of Natick, MA, Town of New Durham, NH, Town of Norwood, MA (Municipal Light Department & Department of Public Works), Town of Orleans, MA, Town of Plaistow, NH, Town of Plymouth, MA, Town of Reading, MA, Town of Wakefield, MA, Town of Wareham, MA, Town of Wayland, MA, Town of Wellfleet, MA, Town of West Bridgewater, MA, Town of Westford, MA, Town of Winchester, MA, Townsend Sales & Service, Inc., Tresca Brothers Sand & Gravel, Inc., Trombly Motor Coach Service, Inc., Tudor Cab, Inc., Two Twenty Two Berkeley Venture, UniFirst Corporation, United States Army Corps of Engineers, United States Army Reserve, Universal Construction, Inc., U.S. Food Service (Monarch Foods and PYA/Monarch, LLC), Varney Bros Sand & Gravel, Inc., Verizon New England, Inc., Vin's Auto Service, Inc., Volkswagen of America, Inc., Wagner & Wagner Auto Sales (d/b/a Wagner Motor Sales), Wakefield Materials Corporation, Wakefield Tune-up, Inc., Water Street Auto Body, Inc., WEACO Realty, Inc., Weber Dodge, Inc., West Lynn Service, Inc., W.A. Kraft Corporation (n/k/a Kraft Power Corporation), W.H. Bagshaw Company, Inc., Whitney's Service, William A. Miller (d/b/a Shawsheen Service), and Woods Hole Oceanographic Institution.

In accordance with the Comprehensive Environmental Response, Compensation, and Liability Act of 1980, as amended, 42 U.S.C. 9601 et seq., notice is hereby given of a proposed second de minimis settlement agreement under section 122(g) of CERCLA concerning the Beede Waste Oil Superfund Site in Plaistow, NH. The second settlement was approved by EPA Region I, subject to review by the public pursuant to this Notice.

The proposed second settlement has been approved by the United States Department of Justice and, for the State portion of the settlement, by the State of New Hampshire. EPA will receive written comments relating to this settlement for thirty (30) days from the date of publication of this Notice.

Dated: August 29, 2002.
Stanley Chin,
Acting Director, Office of Site Remediation and Restoration, EPA—Region I.

[FR Doc. 02-22988 Filed 9-9-02; 8:45 am]

BILLING CODE 6560-50-P